DEPARTMENT OF JUSTICE

Notice of Lodging of Proposed Consent Decree Under the Comprehensive Environmental Response, Compensation, and Liability Act

On June 20, 2019, the Department of Justice lodged a Consent Decree in a case filed in 2017 against Defendant Vincent Dell'Aversano in the United States District Court for the District of Delaware. The Consent Decree resolves claims under Section 106(a) and 106(b)(1) of the Comprehensive Environmental Response, Compensation, and Liability Act (“CERCLA”), 42 U.S.C. 9606(a) and 9606(b)(1), to enforce an EPA administrative order issued to Mr. Dell'Aversano to protect remedial measures implemented on property he owns on a portion of the Delaware Sand & Gravel Superfund Site in New Castle County, Delaware (the “Site”). Under the consent decree, which supersedes the EPA administrative order, Mr. Dell'Aversano agrees to implement certain Operations and Maintenance measures on his property, submit annual reports, and record a notice of institutional controls.

The publication of this notice opens a period for public comment on the Consent Decree. Comments should be addressed to the Assistant Attorney General, Environment and Natural Resources Division, and should refer to United States v. Vincent Dell'Aversano, Civil Action No. 1:17-cv-01342 (D. Del.), DOJ number 90-11-3-11545. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $12.75 (25 cents per page reproduction cost) payable to the United States Treasury. For a paper copy without the exhibits and signature pages, the cost is $7.50.

Robert Brook,
Assistant Section Chief, Environmental Enforcement Section, Environment and Natural Resources Division.

[FR Doc. 2019-13700 Filed 6-26-19; 8:45 am]

BILLING CODE 4410-15-P